DEPARTMENT OF COMMERCE

National Oceanic and Atmospheric Administration

RIN 0648-XT82

Marine Mammals; File No. 14676

AGENCY: National Marine Fisheries Service (NMFS), National Oceanic and Atmospheric Administration (NOAA), Commerce.

ACTION: Notice; issuance of permit.

SUMMARY: Notice is hereby given that Paul Ponganis, Ph.D., University of California at San Diego, La Jolla, CA, 92093 has been issued a permit to conduct research on California sea lions (Zalophus californianus).

ADDRESSES: The permit and related documents are available for review upon written request or by appointment in the following office(s):

• Permits, Conservation and Education Division, Office of Protected Resources, NMFS, 1315 East-West Highway, Room 13705, Silver Spring, MD 20910; phone (301) 713-2289; fax (301) 713-0376; and

• Southwest Region, NMFS, 501 West Ocean Blvd., Suite 4200, Long Beach, CA 90802-4213; phone (562) 980-4001; fax (562) 980-4018.

FOR FURTHER INFORMATION CONTACT: Kate Swails or Tammy Adams, (301) 713-2289.

SUPPLEMENTARY INFORMATION: On October 15, 2009, notice was published in the Federal Register (74 FR 52949) that a request for a permit to conduct research had been submitted by the above-named applicant. The requested permit has been issued under the authority of the Marine Mammal Protection Act of 1972, as amended (16 U.S.C. 1361 et seq.) and the regulations governing the taking and importing of marine mammals (50 CFR part 216).

The purpose of this research is to determine the role of blood oxygen store depletion in the dive behavior and foraging ecology of California sea lions. This research will help determine the ability of these animals to adapt to environmental change. Over the course of five years, up to twenty animals will be captured, flipper tagged, anesthetized, and equipped with a backpack blood oxygen recorder during foraging trips to sea. Animals will be recaptured after the foraging trip to remove the recorders. Research will occur on San Nicolas Island off the coast of California. Annually, up to 6,000 California sea lions, 500 harbor seals (Phoca vitulina), 1,000 northern elephant seals (Mirounga angustirostris), and 150 northern fur seals (Callorhinus ursinus) may be incidentally harassed during research. The permit is valid until February 1, 2015.

In compliance with the National Environmental Policy Act of 1969 (42 U.S.C. 4321 et seq.), a final determination has been made that the activity proposed is categorically excluded from the requirement to prepare an environmental assessment or environmental impact statement.

Dated: January 20, 2010.
Tammy C. Adams,
Acting Chief, Permits, Conservation and Education Division, Office of Protected Resources, National Marine Fisheries Service.

[FR Doc. 2010-1494 Filed 1-25-10; 8:45 am]

BILLING CODE 3510-22-S